DEPARTMENT OF DEFENSE

GENERAL SERVICES ADMINISTRATION

NATIONAL AERONAUTICS AND SPACE ADMINISTRATION

[OMB Control No. 9000-0189; Docket No. 2024-0053; Sequence No. 21]

Submission for OMB Review; Certain Federal Acquisition Regulation Part 4 Requirements

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve an extension of a previously approved information collection requirement regarding certain Federal Acquisition Regulation (FAR) part 4 requirements and a revision to address existing Commercial and Government Entity code requirements.

DATES: Submit comments on or before April 14, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: FARPolicy@gsa.gov or call 202-969-4075.

SUPPLEMENTARY INFORMATION:

A. OMB Control Number, Title, and Any Associated Form(s)

9000-0189, Certain Federal Acquisition Regulation Part 4 Requirements.

B. Need and Uses

This clearance covers the information that offerors and contractors must submit to comply with the following FAR requirements:

1. FAR 52.204-3, and 52.212-3(l)—Taxpayer Identification Number (TIN) Information. When there is not a requirement to be registered in the System for Award Management (SAM), offerors are required to submit their TIN information by the provision at FAR 52.204-3, Taxpayer Identification, for other than commercial acquisitions, and by paragraph (l) of the provision at FAR 52.212-3, Offeror Representations and Certifications—Commercial Products and Commercial Services, for commercial acquisitions.

The TIN information may be used by the Government to collect and report on any delinquent amounts arising out of the offeror's relationship with the Government (31 U.S.C. 7701(c)(3)). If a contract is subject to the payment reporting requirements in FAR 4.904, the TIN may be matched with the Internal Revenue Service records to verify the accuracy of the TIN submitted by the offeror.

2. FAR 52.204-6, 52.212-1(j), and 52.204-12—Unique Entity Identifier. When there is not a requirement to be registered in SAM, offerors are required to submit their unique entity identifier by the provision at FAR 52.204-6, Unique Entity Identifier, for other than commercial acquisitions, and by paragraph (j) of the provision at FAR 52.212-1, Instructions to Offerors—Commercial Products and Commercial Services, for commercial acquisitions. The clause at FAR 52.204-12, Unique Entity Identifier Maintenance, requires contractors to maintain their unique entity identifier with the organization designated in SAM to issue such identifiers, for the life of the contract. The clause also requires contractors to notify contracting officers of any changes to the unique entity identifier.

The Government uses the unique entity identifier to identify contractors in reporting to the Federal Procurement Data System (FPDS). FPDS provides a comprehensive mechanism for assembling, organizing, and presenting contract placement data for the Federal Government. Contracting officers use a notification provided under FAR 52.204-12 regarding any change to the unique entity identifier to modify contracts to reflect the updated unique entity identifier.

3. FAR 52.204-7, 52.204-13, and 52.212-3(b)—SAM Registration and Maintenance. The provision at FAR 52.204-7, System for Award Management, requires offerors to be registered in SAM when submitting an offer or quotation and at time of award, except in certain limited cases, and to continue to be registered through final payment of any award that results from such offer. The clause at FAR 52.204-13, System for Award Management Maintenance, requires contractors to make sure their SAM data is kept current, accurate, and complete throughout contract performance and final payment; this maintenance is, at a minimum, to be done through an annual review and update of the contractor's SAM registration. Paragraph (b) of the provision at FAR 52.212-3 contains the equivalent of FAR 52.204-7 and 52.204-13, for commercial acquisitions.

The Government use the collected information to establish a common source of vendor data to increase visibility of vendor sources (including their geographical locations) for specific supplies and services.

4. FAR 52.204-14, and 52.204-15—Service Contract Reporting Requirements. The clauses at FAR 52.204-14, Service Contract Reporting Requirements, and FAR 52.204-15, Service Contract Reporting Requirements for Indefinite-Delivery Contracts, require contractors to report the following information in SAM annually:

(a) Contract number and, as applicable, order number.

(b) The total dollar amount invoiced for services performed during the previous Government fiscal year under each contract.

(c) The number of contractor direct labor hours expended on the services performed during the previous Government fiscal year.

(d) Data reported by each first-tier subcontractor providing services under the contract if required to do so.

Section 743 of Division C of the Consolidated Appropriations Act, 2010 (Pub. L. 111-117) requires executive agencies covered by the Federal Activities Inventory Reform Act (Pub. L. 105-270), except DoD, to submit to OMB an annual inventory of activities performed by service contractors. DoD is exempt from this reporting requirement because 10 U.S.C. 4505(c) already require DoD to develop an annual service contract inventory. Civilian agencies use the service contract information provided by FAR clauses 52.204-14 and 52.204-15 to supplement agency annual service contract reporting requirements with the contractor-provided service contract reporting information.

5. FAR 52.204-16 and 52.204-18, Commercial and Government Entity (CAGE) Code Reporting and Maintenance. The provision at FAR 52.204-16, Commercial and Government Entity Code Reporting, require offerors to provide their CAGE code, including name and location address, with their offer. The CAGE code must be for that name and location address. The CAGE code is required prior to award. The clause at FAR 52.204-18, Commercial and Government Entity Code Maintenance, requires contractors to maintain their CAGE code throughout the life of the contract for each location of contract, including subcontract, performance.

For contractors registered in SAM, the Defense Logistics Agency (DLA) CAGE Branch shall only modify data received from SAM in the CAGE master file if the contractor initiates those changes via update of its SAM registration. Contractors undergoing a novation or change-of-name agreement shall notify the contracting officer in accordance with FAR subpart 42.12. The contractor shall communicate any change to the CAGE code to the contracting officer within 30 days after the change, so that a modification can be issued to update the CAGE code on the contract. Contractors located in the U.S. or its outlying areas that are not registered in SAM shall submit written change request to the DLA CAGE Branch. Contractors located outside the U.S. and its outlying areas that are not registered in SAM shall contact the appropriate National Codification Bureau points of contact to request CAGE changes.

6. FAR 52.204-17, Ownership or Control of Offeror. This provision requires offerors to represent whether they are owned or controlled by another entity, and if so, to provide the CAGE code and name of such entity.

The CAGE code system may be used, among other things, to—

(a) Exchange data with another contracting activity, including contract administration activities and contract payment activities;

(b) Exchange data with another system that requires the unique identification of a contractor entity; or

(c) Identify when offerors are owned or controlled by another entity.

7. FAR 52.204-20, Predecessor of Offeror. This provision requires offerors to identify if the offeror is, within the last three years, a successor to another entity that received a Federal Government award and, if so, to provide the CAGE code and legal name of the predecessor.

The information on predecessors is used to identify such entities in the Federal Awardee Performance and Integrity Information System (FAPIIS) to allow retrieval of integrity and performance data on the most recent predecessor of an apparent successful offeror to whom award is anticipated. FAR 9.104-6 requires contracting officers to consult FAPIIS before awarding a contract that exceeds the simplified acquisition threshold.

8. FAR 52.204-23, Prohibition on Contracting for Hardware, Software, and Services Developed or Provided by Kaspersky Lab Covered Entities. This clause requires contractors to report, in writing, to the contracting officer or, in the case of DoD, to the website at https://dibnet.dod.mil, any instance when the contractor identifies a covered article provided to the Government during contract performance, or if contractors are notified of such an event by subcontractors at any tier or any other source.

Agency personnel will use the collected information to identify and remove prohibited hardware, software, or services from Government use. This information collection is required to comply with section 1634 of Division A of the National Defense Authorization Act for Fiscal Year 2018 (Pub. L. 115-91).

C. Annual Burden

Respondents: 353,291.

Total Annual Responses: 843,253.

Total Burden Hours: 387,083.

D. Public Comment

A 60-day notice was published in the Federal Register at 89 FR 104154, on December 20, 2024. No comments were received.

Obtaining Copies: Requesters may obtain a copy of the information collection documents from the GSA Regulatory Secretariat Division by calling 202-501-4755 or emailing GSARegSec@gsa.gov. Please cite OMB Control No. 9000-0189, Certain Federal Acquisition Regulation Part 4 Requirements.

Janet Fry,
Director, Federal Acquisition Policy Division, Office of Governmentwide Acquisition Policy, Office of Acquisition Policy, Office of Governmentwide Policy.

[FR Doc. 2025-04003 Filed 3-12-25; 8:45 am]

BILLING CODE 6820-EP-P